NUCLEAR REGULATORY COMMISSION

[Docket Nos. 50-275 and 50-323; NRC-2016-0080]

Pacific Gas and Electric Company

AGENCY: Nuclear Regulatory Commission.

ACTION: Director's decision under 10 CFR 2.206; issuance.

SUMMARY: The U.S. Nuclear Regulatory Commission (NRC) has issued a director's decision with regard to a Petition to Intervene and Request for Hearing concerning Diablo Canyon Power Plant (DCPP) dated August 26, 2014, filed by Friends of the Earth (FOE or petitioner), asserting, in part, its concerns about DCPP's operational safety and ability to safely shut down in the event of a nearby earthquake. The petitioner's requests and the director's decision are included in the SUPPLEMENTARY INFORMATION section of this document.

ADDRESSES: Please refer to Docket ID NRC-2016-0080 when contacting the NRC about the availability of information regarding this document. You may obtain publicly-available information related to this document using any of the following methods:

• Federal Rulemaking Web site: Go to http://www.regulations.gov and search for Docket ID NRC-2016-0080. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. For the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: Margaret Watford, Office of Nuclear Reactor Regulation, U.S. Nuclear Regulatory Commission, Washington, DC 20555-0001; telephone: 301-415-1233, email: Margaret.Watford@nrc.gov.

SUPPLEMENTARY INFORMATION: Notice is hereby given that the Director, Office of Nuclear Reactor Regulation, has issued a director's decision on a Petition to Intervene and Request for Hearing, filed by the FOE on August 26, 2014, which the Commission referred to the NRC's EDO for consideration under the regulations of section 2.206 of title 10 of the Code of Federal Regulations (10 CFR) in Commission Memorandum and Order (CLl-15-14) dated May 21, 2015. The EDO then referred these concerns to the NRC's Office of Nuclear Reactor Regulation for consideration under 10 CFR 2.206. The petition was supplemented by letters dated September 30, 2015, and February 8, 2016.

The petitioner requested that the NRC take enforcement actions to ensure that DCPP can operate safely and demonstrate its ability to safely shut down in the event of an earthquake caused by nearby faults. As the basis of the request, the petitioner states that the “NRC staff's determination that the new seismic information, including the Shoreline earthquake and its effect on the San Luis Bay and Los Osos faults, is a lesser-included case within the Hosgri earthquake is insufficient to insure that Diablo Canyon is operating safely with an adequate margin of safety.”

On two occasions, the NRC offered FOE opportunities to address the Petition Review Board (PRB), which was established to review FOE's enforcement concerns. In response, on September 30, 2015, and February 8, 2016, FOE provided written submissions to the PRB in lieu of addressing the PRB in person or by telephone. The NRC staff considered these submittals during its evaluation.

The NRC sent a copy of the proposed director's decision to the petitioner and the Pacific Gas and Electric Company (the licensee) for comment on February 28, 2017. The petitioner and the licensee were asked to provide comments by March 16, 2017, on any part of the proposed director's decision that was considered to be erroneous or any issues in the petition that were not addressed. The NRC staff did not receive any comments on the proposed director's decision.

The Director of the Office of Nuclear Reactor Regulation has determined that the request to take enforcement actions to ensure that DCPP can operate safely and demonstrate its ability to safely shut down in the event of an earthquake caused by nearby faults be denied. The reasons for this decision are explained in the director's decision DD-17-02 pursuant to section 2.206 of 10 CFR of the Commission's regulations.

The NRC will file a copy of the director's decision with the Secretary of the Commission for the Commission's review in accordance with 10 CFR 2.206. As provided by this regulation, the director's decision will constitute the final action of the Commission 25 days after the date of the decision unless the Commission, on its own motion, institutes a review of the director's decision in that time.

Availability of Documents

The documents identified in the following table are available for public inspection through the NRC's ADAMS.

Title | Date | ADAMS Accession No.
SRM-M150521A-2—Final Director's Decision Re: Friends of the Earth 2.206 Petition Based on Commission Memorandum and Order CLI-15-14 (CAC Nos. MF6443 and MF6444) | 4/21/2017 | ML17090A182
Petition to Intervene and Request for Hearing By Friends of the Earth | 8/26/2014 | ML14254A231
Commission Memorandum and Order CLI-15-14 | 5/21/2015 | ML15141A084
SRM-M150521A-2/CLI-15-14—E-mail and Letter to 2.206 Panel, Request Pursuant to 10 CFR 2.206 for Suspension of Operations and Enforcement of Nuclear Regulatory Commission Regulations to Ensure Seismic Safety of Diablo Canyon Power Plant | 9/30/2015 | ML15274A054
Friends of the Earth, E-mail, Supplemental Information Regarding Request Pursuant to 10 CFR 2.206 for Suspension of Operations and Enforcement of Nuclear Regulatory Commission Regulations to Ensure Seismic Safety of Diablo Canyon Power Plant | 2/8/2016 | ML16040A221
SRM-M150521A-2, Petitioner Letter Re: Friends of the Earth 2.206 Petition Based on Commission Memorandum and Order CLI-15-14 (CAC Nos. MF6443 and MF6444) | 2/28/2017 | ML17011A205
SRM-M150521A-2—Licensee Letter Re: Friends of the Earth 2.206 Petition Based on Commission Memorandum and Order CLI-15-14 (CAC Nos. MF6443 and MF6444) | 2/28/2017 | ML17011A206

Dated at Rockville, Maryland, this 21st day of April 2017.
For the Nuclear Regulatory Commission.
William M. Dean,
Director, Office of Nuclear Reactor Regulation.

[FR Doc. 2017-08609 Filed 4-27-17; 8:45 am]

BILLING CODE 7590-01-P